ENVIRONMENTAL PROTECTION AGENCY

40 CFR Part 18

[FRL-8053-4]

RIN 2030-AA91

Environmental Protection Research Fellowships and Special Research Consultants for Environmental Protection

AGENCY: Environmental Protection Agency (EPA).

ACTION: Proposed rule.

SUMMARY: The EPA is taking direct final action on the implementation of the EPA's statutory authority in Title II of the Interior, Environment, and Related Agencies Appropriations Act of 2006 (Pub. L. 109-54) that will allow the EPA to establish fellowships in environmental protection research, appoint fellows to conduct this research, and appoint special research consultants to advise on environmental protection research. Under an administrative provision of Public Law 109-54, the Administrator may, after consultation with the Office of Personnel Management, make up to five (5) appointments in any fiscal year from 2006 to 2011 for the Office of Research and Development. Appointees under this authority shall be employees of the EPA and will engage in activities related to scientific and engineering research that support EPA's mission to protect the environment and human health.

In the “Rules and Regulations” section of the Federal Register, we are approving implementation of the EPA's statutory authority (to establish fellowships in environmental protection research and appoint fellows to conduct this research and appoint special research consultants to advise on environmental protection research) in Title II of the Interior, Environmental and Related Agencies Appropriations Act of 2006 (Pub. L. 109-54) with 42 U.S.C. 209 as a direct final rule without prior proposal because we view this as a non-controversial revision and anticipate no adverse comment. We have explained our reasons for this approval in the preamble to the direct final rule. If we receive no adverse comment, no further action on this proposed rule will be taken. If we receive adverse comment, we will withdraw the direct final rule and it will not take effect. We will address all public comments in a subsequent final rule based on this proposed rule. We will not institute a second comment period on this action. Any parties interested in commenting must do so at this time.

DATES: Comments on this proposed rule must be received by May 4, 2006.

ADDRESSES: Submit your comments, identified by Docket ID No. EPA-HQ-OARM-2006-0249, by one of the following methods:

• Federal Docket Management System (FDMS): http://www.regulations.gov. Follow the on-line instructions for submitting comments.

• Mail: John O'Brien, Office of Human Resources/Office of Administration and Resources Management, Mail Code: 3631M, Room 1136-EPA-East, United States Environmental Protection Agency, 1200 Pennsylvania Ave., NW., Washington, DC 20460; e-mail address: obrien.johnt@epa.gov.

• Hand Delivery: Office of Environmental Information Docket, Environmental Protection Agency, EPA West Building, Room B102, 1301 Constitution Ave., NW., Washington, DC 20460. Such deliveries are only accepted during the Docket's normal hours of operation, and special arrangements should be made for deliveries of boxed information.

Instructions: Direct your comments to Docket ID No. EPA-HQ-OARM-2006-0249. The EPA's policy is that all comments received will be included in the public docket without change and may be made available online at http://www.regulations.gov, including any personal information provided, unless the comment includes information claimed to be Confidential Business Information (CBI) or other information whose disclosure is restricted by statute. Do not submit information that you consider to be CBI or otherwise protected through FDMS or e-mail. FDMS is an “anonymous access” system. This means that the EPA will not know your identity or contact information unless you provide it in the body of your comment. If you send an e-mail comment directly to the EPA without going through FDMS, your e-mail address will be automatically captured and included as part of the comment that is placed in the public docket and made available on the Internet. The EPA recommends that you include your name and other contact information in the body of your electronic comment with any disk or CD-ROM you submit. If the EPA cannot read your comment due to technical difficulties and cannot contact you for clarification, the EPA may not be able to consider your comment. Electronic files should avoid the use of special characters, any form of encryption, and be free of any defects or viruses.

Docket: All documents in the docket are listed in FDMS at http://www.regulations.gov. Although listed in the index, some information is not publicly available, i.e., CBI or other information whose disclosure is restricted by statute. Certain other material, such as copyrighted material, is not placed on the Internet and will be publicly available only in hard copy form. Publicly available docket materials are available either electronically in FDMS or in hard copy at the Office of Environmental Information Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Office of Environmental Information Docket is (202) 566-1752.

FOR FURTHER INFORMATION CONTACT: For further information, please contact John O'Brien at (202) 564-7876, Office of Human Resources/Office of Administration and Resources Management, Mail Code 3631M, Room 1136 EPA-East, United States Environmental Protection Agency, 1200 Pennsylvania Ave., NW., Washington, DC 20460; e-mail address: obrien.johnt@epa.gov. You may also contact William Ocampo at (202) 564-0987 or Robert Stevens at (202) 564-5703, Office of Research and Development, Mail Code 8102R, United States Environmental Protection Agency, 1200 Pennsylvania Ave., NW., Washington, DC 20460; e-mail addresses: ocampo.william@epa.gov and stevens.robert@epa.gov.

SUPPLEMENTARY INFORMATION: This document concerns the EPA's authority under 42 U.S.C. 209 to (1) establish fellowships in environmental protection research and appoint fellows to conduct this research and (2) appoint environmental protection special consultants to advise on environmental protection research. The provisions proposed here are identical to those contained in the Direct Final Rule located in the “Rules and Regulations” section of this Federal Register publication. Please refer to the preamble and regulatory text of the direct final action for further information and the actual text of the revisions. Additionally, all information regarding Statutory and Executive Orders for this proposed rule can be found in the Statutory and Executive Order Review section of the direct final action.

Dated: March 27, 2006.
Stephen L. Johnson,
Administrator.

[FR Doc. 06-3205 Filed 4-3-06; 8:45 am]

BILLING CODE 6560-50-P